DEPARTMENT OF COMMERCE

International Trade Administration

[A-560-826]

Monosodium Glutamate From the Republic of Indonesia: Preliminary Results of Antidumping Duty Administrative Review; 2017-2018

AGENCY: Enforcement and Compliance, International Trade Administration, Department of Commerce.

SUMMARY: The Department of Commerce (Commerce) preliminarily determines that PT. Cheil Jedang Indonesia (CJ Indonesia), the sole producer or exporter subject to this administrative review, did not make sales below normal value of monosodium glutamate (MSG) from the Republic of Indonesia (Indonesia) during the period of review (POR), November 1, 2017 through October 31, 2018. We invite interested parties to comment on these preliminary results.

DATES: Applicable January 16, 2020.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

Commerce is conducting an administrative review of the antidumping duty order on MSG from Indonesia covering the sole respondent, CJ Indonesia.¹ For a complete description of the events that followed the initiation of this review, see the Preliminary Decision Memorandum.² A list of topics included in the Preliminary Decision Memorandum is included as the appendix to this notice.

¹ See Initiation of Antidumping and Countervailing Duty Administrative Reviews, 84 FR 2159 (February 6, 2019).

² See Memorandum, “Decision Memorandum for the Preliminary Results of Antidumping Duty Administrative Review: Monosodium Glutamate from the Republic of Indonesia,” dated concurrently with, and hereby adopted by, this notice (Preliminary Decision Memorandum).

On September 3, 2019, we extended the deadline for these preliminary results until December 10, 2019.³ On December 2, 2019, we further extended the deadline for these preliminary results until no later than January 9, 2020.⁴

³ See Memorandum, “Monosodium Glutamate from the Republic of Indonesia; Extension of Deadline for Preliminary Results of Antidumping Duty Administrative Review,” dated September 3, 2019.

⁴ See Memorandum, “Monosodium Glutamate from the Republic of Indonesia; Second Extension of Deadline for Preliminary Results of Antidumping Duty Administrative Review,” dated December 2, 2019.

Scope of the Order

The merchandise covered by this order is MSG, whether or not blended or in solution with other products. Specifically, MSG that has been blended or is in solution with other product(s) is included in this order when the resulting mix contains 15 percent or more of MSG by dry weight. Products with which MSG may be blended include, but are not limited to, salts, sugars, starches, maltodextrins, and various seasonings. Further, MSG is included in this order regardless of physical form (including, but not limited to, in monohydrate or anhydrous form, or as substrates, solutions, dry powders of any particle size, or unfinished forms such as MSG slurry), end-use application, or packaging. For a full description of the scope of the order, see the Preliminary Decision Memorandum.

Methodology

Commerce is conducting this administrative review in accordance with section 751 of the Tariff Act of 1930, as amended (the Act). Constructed export price was calculated in accordance with section 772 of the Act. Normal value was calculated in accordance with section 773 of the Act. For a full description of the methodology underlying Commerce's preliminary results, see the Preliminary Decision Memorandum. The Preliminary Decision Memorandum is a public document and is on file electronically via Enforcement and Compliance's Antidumping and Countervailing Duty Centralized Electronic Service System (ACCESS). ACCESS is available to registered users at http://access.trade.gov, and is available to all parties in the Central Records Unit, Room B-8024 of the main Commerce building. In addition, a complete version of the Preliminary Decision Memorandum can be accessed directly at http://enforcement.trade.gov/frn/index.html. The signed and electronic versions of the Preliminary Decision Memorandum are identical in content.

Preliminary Results of Review

As a result of this review, we preliminarily determine that the following weighted-average dumping margin exists for the period November 1, 2017 through October 31, 2018:

Producer/exporter | Weighted-average dumping margin (percent)
PT. Cheil Jedang Indonesia | 0.00 (de minimis).

Assessment Rate

Upon issuance of the final results of this administrative review, Commerce shall determine, and U.S. Customs and Border Protection (CBP) shall assess, antidumping duties on all appropriate entries covered by this review. If the weighted-average dumping margin for CJ Indonesia is not zero or de minimis (i.e., less than 0.5 percent), then Commerce will calculate importer-specific ad valorem antidumping duty assessment rates based on the ratio of the total amount of dumping calculated for each importer's examined sales to the total entered value of those same sales in accordance with 19 CFR 351.212(b)(1). If the weighted-average dumping margin for CJ Indonesia is zero or de minimis in the final results, or if an importer-specific assessment rate is zero or de minimis in the final results, Commerce will instruct CBP to liquidate the appropriate entries without regard to antidumping duties.

In accordance with Commerce's “automatic assessment” practice, for entries of subject merchandise that entered the United States during the POR that were produced by CJ Indonesia for which CJ Indonesia did not know that its merchandise was destined to the United States, Commerce will instruct CBP to liquidate unreviewed entries at the all-others rate of 6.19 percent,⁵ if there is no rate for the intermediate company(ies) involved in the transaction.⁶ The final results of this review shall be the basis for the assessment of antidumping duties on entries of subject merchandise covered by the final results of this review, where applicable. We intend to issue assessment instructions to CBP 15 days after the publication of the final results of this review.

⁵ See Monosodium Glutamate From the Republic of Indonesia: Final Determination of Sales at Less Than Fair Value, 79 FR 58329 (September 29, 2014) (MSG Investigation Final Determination).

⁶ In these preliminary results, Commerce applied the assessment rate calculation method adopted in Antidumping Proceedings: Calculation of the Weighted-Average Dumping Margin and Assessment Rate in Certain Antidumping Proceedings; Final Modification, 77 FR 8101 (February 14, 2012).

Cash Deposit Requirements

The following cash deposit requirements will be effective upon publication of the notice of the final results of this administrative review for all shipments of MSG from Indonesia entered, or withdrawn from warehouse, for consumption on or after the date of publication of the final results in the Federal Register, as provided by section 751(a)(2)(C) of the Act: (1) The cash deposit rate for CJ Indonesia will be equal to the weighted-average dumping margin established in the final results of this administrative review; (2) for merchandise exported by producers or exporters not covered in this administrative review but covered in a prior segment of the proceeding, the cash deposit rate will continue to be the company-specific rate published in a completed segment for the most recent period of review; (3) if the exporter is not a firm covered in this review or in the original investigation, but the producer is, then the cash deposit rate will be the rate established for the most recently completed segment of this proceeding for the producer of the merchandise; and (4) the cash deposit rate for all other producers or exporters will continue to be 6.19 percent, the all-others rate established in the investigation.⁷ These cash deposit requirements, when imposed, shall remain in effect until further notice.

⁷ See MSG Investigation Final Determination.

Disclosure and Public Comment

Commerce intends to disclose the calculations performed in these preliminary results to parties in this proceeding within five days of the date of publication of this notice in the Federal Register.⁸

⁸ See 19 CFR 351.224(b).

Pursuant to 19 CFR 351.309(c)(ii), interested parties may submit case briefs not later than 30 days after the date of publication of this notice. Rebuttal briefs, limited to issues raised in the case briefs, may be filed no later than five days after the date for filing case briefs.⁹ Parties who submit case briefs or rebuttal briefs in this proceeding are encouraged to submit with each argument: (1) A statement of the issue; (2) a brief summary of the argument; and (3) a table of authorities.¹⁰ All briefs must be filed electronically using ACCESS. An electronically filed document must be received successfully in its entirety by the established deadline.

⁹ See 19 CFR 351.309(d).

¹⁰ See 19 CFR 351.309(c)(2) and (d)(2); see also 19 CFR 351.303 (for general filing requirements).

Pursuant to 19 CFR 351.310(c), interested parties who wish to request a hearing, limited to issues raised in the case and rebuttal briefs, must submit a written request to the Assistant Secretary for Enforcement and Compliance within 30 days after the date of publication of this notice in the Federal Register. Requests should contain (1) the party's name, address, and telephone number; (2) the number of participants; and (3) a list of issues to be discussed. If a request for a hearing is made, parties will be notified of the time and date for the hearing, which will be held at the U.S. Department of Commerce, 1401 Constitution Avenue NW, Washington, DC 20230.

Unless extended, Commerce intends to issue the final results of this administrative review, including the results of its analysis of each of the issues raised in written briefs, not later than 120 days after the date of publication of this notice in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

Commerce is issuing and publishing these preliminary results in accordance with sections 751(a)(1) and 777(i) of the Act, and 19 CFR 351.221(b)(4).

Dated: January 8, 2020.
Jeffrey I. Kessler,
Assistant Secretary for Enforcement and Compliance.

Appendix

List of Topics Discussed in the Preliminary Decision Memorandum

I. Summary

II. Background

III. Scope of the Order

IV. Discussion of the Methodology

V. Normal Value

VI. Currency Conversion

VII. Recommendation

[FR Doc. 2020-00645 Filed 1-15-20; 8:45 am]

BILLING CODE 3510-DS-P